DEPARTMENT OF HOMELAND SECURITY

Federal Emergency Management Agency

[Docket ID: FEMA-2013-0010; OMB No. 1660-0006]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 25, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Flood Insurance Program Policy Forms.

Type of information collection: Revision of a currently approved information collection.

Form Titles and Numbers: FEMA Form 086-0-1, Flood Insurance Application; FEMA Form 086-0-2, Flood Insurance Cancellation/Nullification Request; FEMA Form 086-0-3, Flood Insurance General Change Endorsement; FEMA Form 086-0-4, V-Zone Risk Factor Rating Form and Instructions; and FEMA Form 086-0-5, Flood Insurance Preferred Risk Policy Application.

Abstract: In order to provide for the availability of policies for flood insurance, policies are marketed through the facilities of licensed insurance agents or brokers in the various States. Applications from agents or brokers are forwarded to FEMA. Upon receipt and examination of the application and required premium, FEMA issues the appropriate Federal flood insurance policy.

Affected Public: Individuals or households; State, local or Tribal Government; Business or other for profit; Not-for-profit institutions; and Farms.

Estimated Number of Respondents: 56,122.

Estimated Total Annual Burden Hours: 8,268.

Estimated Cost: The cost to respondents is $6,500 for engineer or architect services.

Dated: June 18, 2013.
Charlene D. Myrthil,
Director, Records Management Division, Mission Support Bureau, Federal Emergency Management Agency, Department of Homeland Security.

[FR Doc. 2013-15170 Filed 6-24-13; 8:45 am]

BILLING CODE 9110-11-P